DEPARTMENT OF TRANSPORTATION

Federal Aviation Administration

14 CFR Part 39

[Docket No. FAA-2019-0479; Product Identifier 2019-NM-020-AD]

RIN 2120-AA64

Airworthiness Directives; Bombardier, Inc., Airplanes

AGENCY: Federal Aviation Administration (FAA), DOT.

ACTION: Notice of proposed rulemaking (NPRM).

SUMMARY: The FAA proposes to supersede Airworthiness Directive (AD) 2009-09-02, which applies to certain Bombardier, Inc., Model DHC-8-400 series airplanes. AD 2009-09-02 requires repetitive inspections for damage of certain main landing gear (MLG) forward stabilizer brace assemblies, repetitive inspections for cracking of both MLG forward stabilizer braces, liquid penetrant inspections for cracking, and corrective actions if necessary. Since the FAA issued AD 2009-09-02, the FAA has determined that the installation of an elbow restrictor is necessary to address the unsafe condition which would extend the repetitive inspection interval. This proposed AD would retain the existing actions and also require installation of an elbow restrictor. The FAA is proposing this AD to address the unsafe condition on these products.

DATES: The FAA must receive comments on this proposed AD by August 26, 2019.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For Bombardier service information identified in this NPRM, contact Bombardier, Inc., Q-Series Technical Help Desk, 123 Garratt Boulevard, Toronto, Ontario M3K 1Y5, Canada; telephone 416-375-4000; fax 416-375-4539; email thd.qseries@aero.bombardier.com; internet http://www.bombardier.com. For Goodrich service information identified in this NPRM, contact Collins Aerospace, 1400 South Service Road West, Oakville, Ontario L6L 5Y7, Canada; telephone: 905-827-7777. You may view this referenced service information at the FAA, Transport Standards Branch, 2200 South 216th St., Des Moines, WA. For information on the availability of this material at the FAA, call 206-231-3195.

Examining the AD Docket

You may examine the AD docket on the internet at http://www.regulations.gov by searching for and locating Docket No. FAA-2019-0479; or in person at Docket Operations between 9 a.m. and 5 p.m., Monday through Friday, except Federal holidays. The AD docket contains this NPRM, the regulatory evaluation, any comments received, and other information. The street address for Docket Operations is listed above. Comments will be available in the AD docket shortly after receipt.

FOR FURTHER INFORMATION CONTACT: Andrea Jimenez, Aerospace Engineer, Airframe and Mechanical Systems Section, FAA, New York ACO Branch, 1600 Stewart Avenue, Suite 410, Westbury, NY 11590; telephone 516-228-7330; fax 516-794-5531; email 9-avs-nyaco-cos@faa.gov.

SUPPLEMENTARY INFORMATION:

Comments Invited

The FAA invites you to send any written relevant data, views, or arguments about this proposal. Send your comments to an address listed under the ADDRESSES section. Include “Docket No. FAA-2019-0479; Product Identifier 2019-NM-020-AD” at the beginning of your comments. The FAA specifically invites comments on the overall regulatory, economic, environmental, and energy aspects of this proposed AD. The FAA will consider all comments received by the closing date and may amend this proposed AD based on those comments.

The FAA will post all comments, without change, to http://www.regulations.gov, including any personal information you provide. The FAA will also post a report summarizing each substantive verbal contact the agency receives about this proposed AD.

Discussion

The FAA issued AD 2009-09-02, Amendment 39-15888 (74 FR 18121, April 21, 2009) (“AD 2009-09-02”), for certain Bombardier Model DHC-8-400 series airplanes. AD 2009-09-02 requires inspections for damage (including excessive wear, corrosion, foreign object damage, and cracking) of certain MLG forward stabilizer brace assemblies and applicable corrective actions; and repetitive inspections for cracking of both MLG forward stabilizer braces, applicable liquid penetrant inspections for cracking, and corrective actions if necessary. AD 2009-09-02 resulted from reports of failures of the aft hinge of the MLG forward stabilizer brace due to fatigue cracks. The FAA issued AD 2009-09-02 to address failure of the stabilizer brace, which could result in the collapse of the MLG.

Actions Since AD 2009-09-02 Was Issued

Since the FAA issued AD 2009-09-02, the FAA has determined that the installation of an elbow restrictor is necessary to address the unsafe condition which would extend the repetitive inspection interval.

Transport Canada Civil Aviation (TCCA), which is the aviation authority for Canada, has issued Canadian AD CF-2009-11R2, dated May 31, 2018 (referred to after this as the Mandatory Continuing Airworthiness Information, or “the MCAI”), to correct an unsafe condition for certain Model DHC-8-400 series airplanes. The MCAI states:

Several reports have been received on failures of the aft hinge of the main landing gear (MLG) forward stabilizer brace. Laboratory examinations have found that the fatigue cracks were initiated from the dowel pin hole at the aft hinge lug of the MLG forward stabilizer brace where the stop bracket is attached. Failure of the stabilizer brace could result in the collapse of the main landing gear.

The initial issue of this [Canadian] AD mandated initial inspections, repetitive inspections and rectification, as required, of the MLG forward stabilizer brace.

Revision 1 of this [Canadian] AD mandated installation of an Elbow Restrictor (P/N 46610-1) to the MLG Down-lock Actuators as terminating action to the repeat inspections in Part I. The repeat inspections in Part IV are required for all Forward Stabilizer Brace Assemblies (P/N 46401-7) after Installation of the Elbow Restrictor (P/N 46610-1).

Revision 2 of this [Canadian] AD, in Part III, gives credit for the accomplishment of earlier revisions of Bombardier Service Bulletin SB 84-32-69 and clarifies, in Part IV, when the initial and repeat inspections are required following the installation of the elbow restrictor (P/N 46610-1) in Part III of this [Canadian] AD.

Required actions include repetitive inspections for damage of certain MLG forward stabilizer brace assemblies, repetitive inspections for cracking of both MLG forward stabilizer braces, applicable liquid penetrant inspections for cracking, applicable corrective actions including repair or replacement if necessary, rework of the MLG forward stabilizer brace, and installation of an elbow restrictor. You may examine the MCAI in the AD docket on the internet at http://www.regulations.gov by searching for and locating Docket No. FAA-2019-0479.

Related Service Information Under 1 CFR Part 51

Bombardier has issued Service Bulletin 84-32-69, Revision C, dated January 20, 2011. This service information describes procedures for installing an elbow restrictor with part number (P/N) 46610-1.

Bombardier has issued Service Bulletin 84-32-76, Revision B, dated August 1, 2018. This service information describes procedures for replacing the standard elbow fitting at the retract port of the lock actuator with a new custom elbow fitting.

Bombardier has also issued Q400 All Operator Message 338, dated February 23, 2009, which the Director of the Federal Register approved for incorporation by reference as of May 6, 2009 (74 FR 18121, April 21, 2009).

Bombardier has issued Repair Drawing 8/4-32-099, Issue 4, dated September 4, 2018. This service information describes procedures for a nondestructive inspection for damage (including excessive wear, corrosion, foreign object damage, and cracking) of the MLG forward stabilizer brace assembly, P/N 46401-7.

Goodrich has issued Service Concession Request 026-09, Revision H, dated August 29, 2018. This service information describes procedures for a nondestructive inspection for damage of the MLG forward stabilizer brace assembly, P/N 46401-7, and applicable corrective actions.

This service information is reasonably available because the interested parties have access to it through their normal course of business or by the means identified in the ADDRESSES section.

FAA's Determination

This product has been approved by the aviation authority of another country, and is approved for operation in the United States. Pursuant to the FAA's bilateral agreement with the State of Design Authority, the FAA has been notified of the unsafe condition described in the MCAI and service information referenced above. The FAA is proposing this AD because the FAA evaluated all the relevant information and determined the unsafe condition described previously is likely to exist or develop on other products of the same type design.

Proposed Requirements of This NPRM

This proposed AD would retain all requirements of AD 2009-09-02. This proposed AD would also require accomplishing the actions specified in the service information described previously.

Costs of Compliance

The FAA estimates that this proposed AD affects 54 airplanes of U.S. registry.

The FAA estimates the following costs to comply with this proposed AD:

Estimated Costs for Required Actions
Action | Labor cost | Parts cost | Cost per product | Cost on U.S. operators
Retained actions from AD 2009-09-02 | 8 work-hours × $85 per hour = $680 | $0 | $680 | $36,720
New proposed actions | 19 work-hours × $85 per hour = $1,615 | 10,867 | 12,482 | 674,028

The FAA has received no definitive data that would enable the agency to provide cost estimates for the on-condition actions specified in this proposed AD.

According to the manufacturer, some or all of the costs of this proposed AD may be covered under warranty, thereby reducing the cost impact on affected individuals. The FAA does not control warranty coverage for affected individuals. As a result, the FAA has included all known costs in the cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2009-09-02, Amendment 39-15888 (74 FR 18121, April 21, 2009), and adding the following new AD:

Bombardier, Inc.: Docket No. FAA-2019-0479; Product Identifier 2019-NM-020-AD.

(a) Comments Due Date

The FAA must receive comments by August 26, 2019.

(b) Affected ADs

This AD replaces AD 2009-09-02, Amendment 39-15888 (74 FR 18121, April 21, 2009) (“AD 2009-09-02”).

(c) Applicability

This AD applies to Bombardier, Inc., Model DHC-8-400, -401, and -402 airplanes, certificated in any category, serial numbers 4001, 4003, and subsequent, equipped with main landing gear (MLG) forward stabilizer brace part number (P/N) 46401-7.

(d) Subject

Air Transport Association (ATA) of America Code 32, Main landing gear.

(e) Reason

This AD was prompted by reports of failures of the aft hinge of the MLG forward stabilizer brace due to fatigue cracks. The FAA is issuing this AD to address failure of the stabilizer brace, which could result in the collapse of the MLG.

(f) Compliance

Comply with this AD within the compliance times specified, unless already done.

(g) Retained Inspection and Corrective Actions, With Revised Service Information and Removed Reporting Requirement

This paragraph restates the requirements of paragraph (f) of AD 2009-09-02, with new service information and removed reporting requirement. Unless already done, do the following actions:

(1) At the applicable time specified in paragraph (g)(1)(i), (g)(1)(ii), (g)(1)(iii), or (g)(1)(iv) of this AD: Perform non-destructive inspections for damage of the MLG forward stabilizer brace assemblies P/N 46401-7, in accordance with Bombardier Repair Drawing 8/4-32-099, Issue 1, dated March 10, 2009, and Goodrich Service Concession Request 026-09, Revision B, dated March 10, 2009; or Bombardier Repair Drawing 8/4-32-099, Issue 4, dated September 4, 2018, and Goodrich Service Concession Request 026-09, Revision H, dated August 29, 2018. Repeat the inspection thereafter at intervals not to exceed 2,000 flight cycles. As of the effective date of this AD, use Bombardier Repair Drawing 8/4-32-099, Issue 4, dated September 4, 2018, and Goodrich Service Concession Request 026-09, Revision H, dated August 29, 2018, for the actions required by this paragraph.

(i) For airplanes with MLG forward stabilizer braces that have accumulated 12,000 or more total flight cycles as of May 6, 2009 (the effective date of AD 2009-09-02): Inspect within 50 flight cycles after May 6, 2009.

(ii) For airplanes with MLG forward stabilizer braces that have accumulated 9,000 or more total flight cycles but fewer than 12,000 total flight cycles as of May 6, 2009 (the effective date of AD 2009-09-02): Inspect before the accumulation of 12,050 total flight cycles, or within 500 flight cycles after May 6, 2009, whichever occurs earlier.

(iii) For airplanes with MLG forward stabilizer braces that have accumulated 4,500 or more total flight cycles but fewer than 9,000 total flight cycles as of May 6, 2009 (the effective date of AD 2009-09-02): Inspect before the accumulation of 9,500 total flight cycles, or within 1,500 flight cycles after May 6, 2009, whichever occurs earlier.

(iv) For airplanes with MLG forward stabilizer braces that have accumulated fewer than 4,500 total flight cycles as of May 6, 2009 (the effective date of AD 2009-09-02): Inspect before the accumulation of 6,000 total flight cycles.

(2) If any damage is found during any inspection required by paragraph (g)(1) of this AD, before further flight, do all applicable corrective actions in accordance with Goodrich Service Concession Request 026-09, Revision B, dated March 10, 2009; or Goodrich Service Concession Request 026-09, Revision H, dated August 29, 2018; except as provided by paragraphs (g)(3), (g)(4), (g)(5), and (g)(6) of this AD. As of the effective date of this AD, use Goodrich Service Concession Request 026-09, Revision H, dated August 29, 2018, for the actions required by this paragraph.

(3) For airplanes on which step 24. of Goodrich Service Concession Request 026-09, Revision B, dated March 10, 2009, has been done: Within 1,200 flight cycles after May 6, 2009 (the effective date of AD 2009-09-02), rework the MLG forward stabilizer brace, and except for airplanes on which the rework has been done, within 600 flight cycles after May 6, 2009, do a detailed visual inspection for damage of the stabilizer brace apex lugs, in accordance with Goodrich Service Concession Request 026-09, Revision B, dated March 10, 2009; or Goodrich Service Concession Request 026-09, Revision H, dated August 29, 2018. If any damage is found, repair before further flight in accordance with Section C of Goodrich Service Concession Request 026-09, Revision B, dated March 10, 2009; or Section C of Goodrich Service Concession Request 026-09, Revision H, dated August 29, 2018. As of the effective date of this AD, use Goodrich Service Concession Request 026-09, Revision H, dated August 29, 2018, for the actions required by this paragraph.

(4) At the applicable time specified in paragraph (g)(4)(i), (g)(4)(ii), or (g)(4)(iii) of this AD, replace the forward stabilizer brace assembly, in accordance with Goodrich Service Concession Request 026-09, Revision B, dated March 10, 2009; or Goodrich Service Concession Request 026-09, Revision H, dated August 29, 2018. As of the effective date of this AD, use Goodrich Service Concession Request 026-09, Revision H, dated August 29, 2018, for the actions required by this paragraph.

(i) For airplanes on which cracking is found during any inspection required by this AD, and the cracking exceeds the limit specified in paragraph (g)(4)(i)(A) or (g)(4)(i)(B) of this AD, as applicable: Replace the assembly before further flight.

(A) For cracking found before the effective date of this AD: The limit specified in Section C of Goodrich Service Concession Request 026-09, Revision B, dated March 10, 2009.

(B) For cracking found on or after the effective date of this AD: The limit specified in Section C or Section D of Goodrich Service Concession Request 026-09, Revision H, dated August 29, 2018.

(ii) For airplanes on which any cracking is found after the rework specified in Section C of Goodrich Service Concession Request 026-09, Revision B, dated March 10, 2009; or specified in Section C or Section D of Goodrich Service Concession Request 026-09, Revision H, dated August 29, 2018: Replace the assembly before further flight.

(iii) For airplanes on which no cracking is found after the rework specified in Section C of Goodrich Service Concession Request 026-09, Revision B, dated March 10, 2009; or specified in Section C or Section D of Goodrich Service Concession Request 026-09, Revision H, dated August 29, 2018: Replace the assembly within 2,700 flight cycles after doing the rework.

(5) If foreign object damage is found during any inspection required by this AD, or if damage is found to a forward stabilizer brace lug or stop bracket retention hole apex bushing, before further flight, repair using a method approved by the Manager, New York ACO Branch, FAA; or Transport Canada Civil Aviation (TCCA); or Bombardier, Inc.'s TCCA Design Approval Organization (DAO). If approved by the DAO, the approval must include the DAO-authorized signature.

(6) If any crack is found during the visual inspection under 10X magnification, repair before further flight, in accordance with Goodrich Service Concession Request 026-09, Revision B, dated March 10, 2009; or Goodrich Service Concession Request 026-09, Revision H, dated August 29, 2018. As of the effective date of this AD, use Goodrich Service Concession Request 026-09, Revision H, dated August 29, 2018, for the actions required by this paragraph.

(7) Before the accumulation of 6,000 total flight cycles on the MLG forward stabilizer braces, or within 600 flight hours after May 6, 2009 (the effective date of AD 2009-09-02), whichever occurs later: Do a detailed visual inspection for cracking of both MLG forward stabilizer braces and do all applicable liquid penetrant inspections for cracking, in accordance with Bombardier Q400 All Operator Message 338, dated February 23, 2009. Repeat the inspection thereafter at intervals not to exceed 600 flight hours. If any cracking is found during any inspection required by this paragraph, repair before further flight in accordance with Bombardier Repair Drawing 8/4-32-099, Issue 1, dated March 10, 2009, and Goodrich Service Concession Request 026-09, Revision B, dated March 10, 2009; or Bombardier Repair Drawing 8/4-32-099, Issue 4, dated September 4, 2018, and Goodrich Service Concession Request 026-09, Revision H, dated August 29, 2018. As of the effective date of this AD, use Bombardier Repair Drawing 8/4-32-099, Issue 4, dated September 4, 2018, and Goodrich Service Concession Request 026-09, Revision H, dated August 29, 2018, to repair cracking found during any inspection required by this paragraph.

(h) New Requirement of This AD: Installation of Elbow Restrictor

Within 2,000 flight hours or 12 months, whichever occurs first, from the effective date of this AD: Install an elbow restrictor, P/N 46610-1, in accordance with the Accomplishment Instructions of Bombardier Service Bulletin 84-32-69, Revision C, dated January 20, 2011.

(i) Terminating Actions

(1) Installation of an elbow restrictor as required by paragraph (h) of this AD terminates the repetitive inspection requirements of paragraphs (g)(1) and (g)(7) of this AD.

(2) Installation of an elbow restrictor as required by paragraph (h) of this AD terminates the replacement of the forward stabilizer brace assembly requirement of paragraph (g)(4)(iii) of this AD.

(j) New Requirement of This AD: Revised Repetitive Inspections of the MLG Forward Stabilizer Brace

(1) Within 2,000 flight cycles after the installation specified in paragraph (h) of this AD, or within 12 months after the effective date, whichever occurs later, do the non-destructive inspection, in accordance with Bombardier Repair Drawing 8/4-32-099, Issue 4, dated September 4, 2018, and Goodrich Service Concession Request 026-09, Revision H, dated August 29, 2018. Thereafter, repeat the non-destructive inspection at the times specified in paragraph (j)(2) of this AD.

(2) Repeat the non-destructive inspection required in paragraph (j)(1) of this AD at the applicable intervals specified in paragraphs (j)(2)(i), (j)(2)(ii), and (j)(2)(iii) of this AD.

(i) For forward stabilizer braces, P/N 46401-7, that have not had any required rework done, as specified in Goodrich Service Concession Request 026-09, Section C or D, and have had Bombardier Service Bulletin 84-32-69 or Bombardier Service Bulletin 84-32-76 incorporated: Do the non-destructive inspection at intervals not to exceed 6,000 flight cycles.

(ii) For forward stabilizer braces, P/N 46401-7, that have been reworked in accordance with Goodrich Service Concession Request 026-09, Section D, and have had Bombardier Service Bulletin 84-32-69 or Bombardier Service Bulletin 84-32-76 incorporated: Do the non-destructive inspection at intervals not to exceed 6,000 flight cycles.

(iii) For forward stabilizer braces, P/N 46401-7, that have been reworked in accordance with Goodrich Service Concession Request 026-09, Section C, and have had Bombardier Service Bulletin 84-32-69 or Bombardier Service Bulletin 84-32-76 incorporated: Do the non-destructive inspection at intervals not to exceed 3,000 flight cycles.

(k) Acceptable Method of Compliance for Paragraph (h) of This AD

Replacing the standard elbow fitting at the retract port of the lock actuator with a new custom elbow fitting in accordance with the Accomplishment Instructions of Bombardier Service Bulletin 84-32-76, Revision B, dated August 1, 2018, is an acceptable method of compliance for the installation required by paragraph (h) of this AD.

(l) Credit for Previous Actions

(1) This paragraph provides credit for actions required by paragraph (h) of this AD, if those actions were performed before the effective date of this AD using the service information in paragraph (l)(1)(i), (l)(1)(ii), or (l)(1)(iii) of this AD.

(i) Bombardier Service Bulletin 84-32-69, dated June 30, 2009.

(ii) Bombardier Service Bulletin 84-32-69, Revision A, dated August 19, 2009.

(iii) Bombardier Service Bulletin 84-32-69, Revision B, dated September 17, 2009.

(2) This paragraph provides credit for actions specified in paragraph (j) of this AD, if those actions were performed before the effective date of this AD using the service information in paragraph (l)(2)(i), (l)(2)(ii), or (l)(2)(iii) of this AD.

(i) Bombardier Repair Drawing 8/4-32-099, Issue 1, dated March 10, 2009, and Goodrich Service Concession Request 026-09, Revision B, dated March 10, 2009.

(ii) Bombardier Repair Drawing 8/4-32-099, Issue 2, dated April 20, 2009, and Goodrich Service Concession Request 026-09, Revision C, dated April 17, 2009.

(iii) Bombardier Repair Drawing 8/4-32-099, Issue 3, dated December 3, 2009, and Goodrich Service Concession Request 026-09, Revision D, dated November 27, 2009.

(3) This paragraph provides credit for actions performed using the method of compliance specified in paragraph (k) of this AD, if those actions were performed before the effective date of this AD using the service information in paragraph (l)(3)(i) or (l)(3)(ii) of this AD.

(i) Bombardier Service Bulletin 84-32-76, dated May 20, 2010.

(ii) Bombardier Service Bulletin 84-32-76, Revision A, dated June 19, 2014.

(m) Other FAA AD Provisions

(1) Alternative Methods of Compliance (AMOCs): The Manager, New York ACO Branch, FAA, has the authority to approve AMOCs for this AD, if requested using the procedures found in 14 CFR 39.19. In accordance with 14 CFR 39.19, send your request to your principal inspector or local Flight Standards District Office, as appropriate. If sending information directly to the manager of the certification office, send it to ATTN: Program Manager, Continuing Operational Safety, FAA, New York ACO Branch. AMOCs approved previously in accordance with AD 2009-09-02 are approved as AMOCs for the corresponding requirements in paragraph (g) of this AD.

(2) Contacting the Manufacturer: For any requirement in this AD to obtain corrective actions from a manufacturer, the action must be accomplished using a method approved by the Manager, New York ACO Branch, FAA; or TCCA; or Bombardier, Inc.'s TCCA DAO. If approved by the DAO, the approval must include the DAO-authorized signature.

(n) Related Information

(1) Refer to Mandatory Continuing Airworthiness Information (MCAI) Canadian AD CF-2009-11R2, dated May 31, 2018, for related information. This MCAI may be found in the AD docket on the internet at http://www.regulations.gov by searching for and locating Docket No. FAA-2019-0479.

(2) For more information about this AD, contact Andrea Jimenez, Aerospace Engineer, Airframe and Mechanical Systems Section, FAA, New York ACO Branch, 1600 Stewart Avenue, Suite 410, Westbury, NY 11590; telephone 516-228-7330; fax 516-794-5531; email 9-avs-nyaco-cos@faa.gov.

(3) For service information identified in this AD, contact Bombardier, Inc., Q-Series Technical Help Desk, 123 Garratt Boulevard, Toronto, Ontario M3K 1Y5, Canada; telephone 416-375-4000; fax 416-375-4539; email thd.qseries@aero.bombardier.com; internet http://www.bombardier.com. For Goodrich service information identified in this NPRM, contact Collins Aerospace, 1400 South Service Road West, Oakville, Ontario L6L 5Y7, Canada; telephone: 905-827-7777. You may view this service information at the FAA, Transport Standards Branch, 2200 South 216th St., Des Moines, WA. For information on the availability of this material at the FAA, call 206-231-3195.

Issued in Des Moines, Washington, on June 26, 2019.
Dionne Palermo,
Acting Director, System Oversight Division, Aircraft Certification Service.

[FR Doc. 2019-14045 Filed 7-11-19; 8:45 am]

BILLING CODE 4910-13-P